FEDERAL COMMUNICATIONS COMMISSION

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before July 25, 2011. If you anticipate that you will be submitting comments, but find it difficult to do so within the period of time allowed by this notice, you should advise the contact listed below as soon as possible.

ADDRESSES: Direct all PRA comments to Paul Laurenzano, FCC, via e-mail PRA@fcc.gov and to Paul.Laurenzano@fcc.gov.

FOR FURTHER INFORMATION CONTACT: For additional information about the information collection, contact Paul Laurenzano at (202) 418-1359.

SUPPLEMENTARY INFORMATION: OMB Control Number: 3060-1081.

Title: Telecommunications Carriers Eligible To Receive Universal Service Support.

Form Number: N/A.

Type of Review: Extension of a currently approved collection.

Respondents: Business or other for-profit.

Number of Respondents and Responses: 1529 respondents; 1529 responses.

Estimated Time per Response: 0.25-40 hours.

Obligation To Respond: Required to obtain or retain benefits, 47 CFR 54.202, 54.209.

Frequency of Response: One-time and annual reporting requirements; recordkeeping requirements.

Total Annual Burden: 1,356 hours.

Total Annual Cost: No cost.

Privacy Act Impact Assessment: No impact(s).

Nature of Extent of Confidentiality: If respondents submit information which respondents believe is confidential, respondents may request confidential treatment of such information pursuant to section 0.459 of the Commission's rules, 47 CFR 0.459.

Needs and Uses: Designation as an Eligible Telecommunications Carrier (ETC) makes a telecommunications carrier eligible to participate in the Universal Service Fund's high-cost and low-income programs, which support the extension of telecommunications services to underserved rural and low-income communities. In the absence of this information collection, the Commission's ability to oversee the use of Federal universal service funds and to combat waste, fraud, and abuse in the use of Federal funds would be compromised. The Commission's rules for ETCs require the collection of the following information as stated in paragraphs a-c:

a. ETC Designation Application. Rule 54.202 requires carriers seeking designation from the Commission to submit an application that certifies that the carrier will reasonably provide service to customers in their designated service area, 47 CFR 54.202(a)(1)(i), includes a five-year plan that describes network improvements or why such improvements are unnecessary, § 54.202(a)(1)(ii), demonstrates the carrier's ability to remain functional in emergency situations, § 54.202(a)(2), demonstrates the carrier's commitment to consumer protection and service quality standards, § 54.202(a)(3), demonstrates that carrier offers a local usage plan comparable to the one offered by the incumbent telephone company, § 54.202(a)(4), and certifies that the Commission may require the carrier to provide equal access to other long distance carriers, § 54.202(a)(5). If the carrier is seeking designation on Tribal lands, the carrier must also submit a copy of its application to the Tribal government and Tribal regulatory authority. § 54.202(d).

b. ETC Annual Reporting. Rule 54.209 requires Federally designated ETCs to submit each year an annual report on October 1 that parallels many of the requirements of an application. The annual report must include a progress report on the ETC's five-year plan, § 54.209(a)(1), detailed outage information, § 54.209(a)(2), the number of unfulfilled requests for service from potential customers within its service areas, § 54.209(a)(3), the number of complaints per 1,000 handsets or lines, § 54.209(a)(4), certification that the ETC is complying with applicable service quality standards and consumer protection rules, § 54.209(a)(5), certification that the ETC is able to function in emergency situations, § 54.209(a)(6), certification that the ETC is offering a local usage plan comparable to that offered by the incumbent LEC in the relevant service areas, § 54.209(a)(7), and certification that the Commission may require the carrier to provide equal access to other long distance carriers, § 54.209(a)(8).

c. ETC Recordkeeping. Rule 54.202(e) requires all ETCs to keep for a period of at least five years all records required to demonstrate to auditors that the support received was consistent with the universal service high-cost program rules.

Federal Communications Commission.
Bulah P. Wheeler,
Deputy Manager, Office of the Secretary, Office of the Managing Director.

[FR Doc. 2011-13020 Filed 5-25-11; 8:45 am]

BILLING CODE 6712-01-P